UNITED STATES POSTAL SERVICE BOARD OF GOVERNORS

Sunshine Act Meeting

Times and Dates: 6 p.m., Monday, June 22, 2009; 10 a.m., Tuesday, June 23, 2009; and 8 a.m., Wednesday, June 24, 2009.

Place: Washington, DC., at U.S. Postal Service Headquarters, 475 L'Enfant Plaza, SW.

Status: Closed.

Matters to be Considered:

Monday, June 22 at 6 p.m. (Closed)

1. Financial Matters.

2. Strategic Issues.

3. Pricing.

4. Personnel Matters and Compensation Issues.

5. Governors' Executive Session—Discussion of prior agenda items and Board Governance.

Tuesday, June 23 at 10 a.m. (Closed)

Continuation of Monday's agenda.

Wednesday, June 24 at 8 a.m. (Closed)—If Needed

Continuation of Monday's agenda.

Contact Person for More Information: Julie S. Moore, Secretary of the Board, U.S. Postal Service, 475 L'Enfant Plaza, SW., Washington, DC 20260-1000. Telephone (202) 268-4800.

Julie S. Moore,
Secretary.

[FR Doc. E9-14177 Filed 6-12-09; 11:15 am]

BILLING CODE 7710-12-P